DEPARTMENT OF HOMELAND SECURITY

Coast Guard

33 CFR Part 100

[Docket No. USCG-2019-0629]

Special Local Regulation; Charlevoix Venetian Night Boat Parade; Charlevoix, MI

AGENCY: Coast Guard, DHS.

ACTION: Notice of enforcement of regulation.

SUMMARY: The Coast Guard will enforce special local regulations for the Charlevoix Venetian Boat Parade on July 27, 2019, to provide for the safety of life on navigable waterways during this event. During the enforcement period, the operator of any vessel in the Round Lake, Charlevoix, MI must comply with directions from the Patrol Commander.

DATES: The regulations will be enforced from 7 a.m. through 11:30 p.m. on July 27, 2019.

FOR FURTHER INFORMATION CONTACT: If you have questions about this notice of enforcement, call or email LT Sean Murphy, Coast Guard Sector Sault Sainte Marie Waterways Management, U.S. Coast Guard; telephone 906-635-3223, email Sean.V.Murphy@uscg.mil.

SUPPLEMENTARY INFORMATION: The Coast Guard will enforce special local regulation 33 CFR 100.908 for the Charlevoix Venetian Night Boat Parade from 7 a.m. through 11:30 p.m. on July 27, 2019. This action is being taken to provide for the safety of life on navigable waterways during this event. The regulated area for this event is all navigable waters of Round Lake, Charlevoix, MI. During the enforcement period, as reflected in § 100.901(b), the Patrol Commander may direct the anchoring, mooring, or movement of any boat or vessel within the regatta area.

This notice of enforcement is issued under authority of 33 CFR 165.908 and 5 U.S.C. 552(a). In addition to this notice of enforcement in the Federal Register, the Coast Guard plans to provide notification of this enforcement period via marine information broadcasts.

Dated: July 22, 2019.
P.S. Nelson,
Captain, U.S. Coast Guard, Captain of the Port Sault Sainte Marie.

[FR Doc. 2019-15833 Filed 7-24-19; 8:45 am]

BILLING CODE 9110-04-P